DEPARTMENT OF VETERANS AFFAIRS

Advisory Committee on Tribal and Indian Affairs, Amended Notice of Meeting

The Department of Veterans Affairs (VA) gives notice under the Federal Advisory Committee Act, 5 U.S.C. Ch. 10., that the Advisory Committee on Tribal and Indian Affairs will meet on September 3, 4, and 5, 2025 at the U.S. Army Museum of Hawaii, Museum Classroom, 2131 Kalia Rd, Honolulu, HI 96815. The meeting sessions will begin, and end as follows:

Dates | Times
September 3, 2025, Wednesday | 9:00 a.m. to 5:00 p.m. Hawaii Standard Time (HST).
September 4, 2025, Thursday | 9:00 a.m. to 5:00 p.m. HST.
September 5, 2025, Friday | 9:00 a.m. to 5:00 p.m. HST.

The meeting sessions will be open to the public.

The purpose of the Committee is to advise the Secretary on all matters relating to Indian tribes, tribal organizations, Native Hawaiian organizations, and Native American Veterans.

On September 3, 2025, the agenda will include opening remarks from the Committee Chair, VA senior leadership, presentations from the Veterans Health Administration (VHA), VA Office of Tribal Government Relations, VA VISN 21, VA Office of Health Equity, Native Hawaiian Foundations of Understanding, Office of Hawaiian Veteran Affairs, Native Hawaiian Health—Papa Ola Lokahi, Native Hawaiian Traditional Health, and a Panel Discussion: Government programs and Policy—Native Hawaiians.

On September 4, 2025, the agenda will include updates from the VA National Cemetery Administration (NCA), VA Readjustment Counseling Services—Vet Center Program, VHA Suicide Prevention/Behavioral Health, VHA Homelessness, VBA Native American Direct Loan Program, Indian Health Service—Substance Abuse contract, and site visit: Waianae Health Center.

On September 5, 2025, the agenda will include a public comment period, committee recommendations packet session, site visits to the Punchbowl National Cemetery, Fishpond, and the USS Arizona. The public comment period will start at 9:05 a.m. to 9:50 a.m. HST. The comment period may end sooner, if there are no comments presented or they are exhausted before the end time. The meeting will be adjourned after closing comments.

The meetings are open to the public to attend in person and will be recorded. Individuals who wish to speak during the public comment session are invited to submit a 1-2-page summary of their comments no later than August 15, 2025, for inclusion in the official meeting record. Members of the public may also submit written statements for the Committee's review to Veronica Duncan, at Veronica.Duncan@va.gov. Any member of the public seeking additional information should contact Veronica Duncan at the email address above or by calling 202-905-7294.

To join virtually on Microsoft Teams: https://teams.microsoft.com/l/meetup-join/19%3ameeting_ZDBjZmQzYTktYTQ4MC00Y2I2LTg3NTUtMTE5ZjNkNzgyZDdh%40thread.v2/0?context=%7b%22Tid%22%3a%22e95f1b23-abaf-45ee-821d-b7ab251ab3bf%22%2c%22Oid%22%3a%227ba1f948-b5ea-400d-ac6e-5d8de1560180%22%7d

Dated: July 15, 2025.
Jelessa M. Burney,
Federal Advisory Committee Management Officer.

[FR Doc. 2025-13417 Filed 7-16-25; 8:45 am]

BILLING CODE 8320-01-P